DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally funded research and development.

ADDRESSES: Licensing information and a copy of the U.S. patent application referenced below may be obtained by contacting J.E. Fahner-Vihtelic at the Office of Technology Transfer, National Institutes of Health, 6011 Executive Boulevard, Suite 325, Rockville, Maryland 20852-3804; Telephone: 301/496-7735 ext. 270; Fax: 301/402-0220; E-mail; jf36z@nih.gov. A signed Confidential Disclosure Agreement is required to receive a copy of any patent application.

Artificial Salivary Gland

Bruce J. Baum et al. (NIDCR)

Serial No. 60/121,335

Filed 24 Feb 1999

The present application describes an artificial fluid secreting prosthetic device for non-invasive insertion and methods of using this device. Specifically, compositions and methods based on the discovery of an artificial fluid secreting prosthesis are disclosed in this application. Currently, there is no conventional effective treatment for salivary gland hypofunction. And although the transplantation of mammalian salivary glands has also been tried, this option has not proven desirable due to lack of sufficient donor supplies. To date, the inventors have performed experiments that have demonstrated: (1) Subjects having irradiated salivary gland cells can be induced to secrete fluid subsequent to transfer of a gene; (2) heterologous genes can be transferred to salivary gland cells; and (3) an artificial gland has been designed having a support, an attachment surface joined to the support, and a monolayer of allogenic cells, engineered to secrete ions and water unidirectionally, joined to the attachment surface.

Dated: January 11, 2000.
Jack Spiegel, Ph.D.,
Director, Division of Technology Development and Transfer, Office of Technology Transfer.

[FR Doc. 00-1425 Filed 1-20-00;8:45am]

BILLING CODE 4140-01-M